DEPARTMENT OF EDUCATION

National Assessment Governing Board; Meeting

AGENCY: National Assessment Governing Board; Education.

ACTION: Notice of partially closed meeting.

SUMMARY: This notice sets forth the schedule and proposed agenda of a forthcoming meeting of the National Assessment Governing Board. This notice also describes the functions of the Board. Notice of this meeting is required under Section 10(a)(2) of the Federal Advisory Committee Act. This document is intended to notify the general public of their opportunity to attend.

Date: November 16-18, 2000.

Time: November 16—Executive Committee, 5:30-6.15 p.m. (open), 6:15-7:00 p.m., (closed). November 17—Full Board, 8:15-10 a.m., (open); Assessment Development Committee, 10:00 a.m.-12:30 p.m. (open); Reporting and Dissemination Committee, 10:00 a.m.-12:30 p.m. (open); Committee on Standards, Design, and Methodology, 10:00 a.m.-12:30 p.m., (open); Full Board, 12:30-4:00 p.m., (open). November 18—Full Board, 8:30 a.m.-adjournment, approximately, 12:00 noon, (open).

Location: Hotel Washington, Pennsylvania Avenue and 15th Street, Washington, DC.

FOR FURTHER INFORMATION CONTACT: Sharif Shakrani, Deputy Director, National Assessment Governing Board, Suite 825, 800 North Capitol Street, NW., Washington, DC 20002-4233, Telephone: (202) 357-6938.

SUPPLEMENTARY INFORMATION: The National Assessment Governing Board is established under section 412 of the National Education Statistics act of 1994 (Title IV of the Improving America's Schools Act of 1994) (Pub. L. 103-382).

The Board is established to formulate policy guidelines for the National Assessment of Educational Progress. The Board is responsible for selecting subject areas to be assessed, developing assessment objectives, identifying appropriate achievement goals for each grade and subject tested, and establishing standards and procedures for interstate and national comparisons. Under Public Law 105-78, the National Assessment Governing Board is also granted exclusive authority over developing the Voluntary National Tests pursuant to contact number RJ9753001.

On Thursday, November 16 from 5:00 to 7:00 p.m., the Executive Committee will meet in partially closed session. In the open session, 5:00-6:15 p.m., the Committee will hear an update on the reauthorization legislation, consider the Board's priorities and direction for the coming year, and make assignments to the new standing committees. In closed session from 6:15-7:00 p.m., the Committee will hear an update on the development of cost estimates for the NAEP and future contract initiatives. This portion of the meeting must be conducted in closed session because public disclosure of this information would likely have an adverse financial effect on the NAEP program. The discussion of this information would be likely to significantly frustrate implementation of a proposed agency action if conducted in open session. Such matters are protected by exemption 9(B) of Section 552b(c) of Title 5 U.S.C.

On November 17, the full Board will convene in open session beginning at 8:30 a.m. In addition to the approval of the agenda, the Board will hear comments from the Secretary of Education who will administer the oath of office to the newly appointed Board members. The Board will then hear a report from the Executive Director, an update on the NAEP project, and receive a report from the AdHoc Committee on NAEP Participation.

From 10 a.m.-12 p.m., there will be open meetings of the standing committees. The Assessment Development Committee will receive a briefing on the new NAEP 2004 Mathematics Framework Update contract, and discuss an upcoming project to refine the framework document for the NAEP reading assessment. The Committee also will discuss several recommendations of the Ad Hoc Committee on NAEP Participation, specifically related to released NAEP test items and the teacher tool kit.

Agenda items for the Reporting and Dissemination Committee include review and discussion of the recommendations from the Ad Hoc Committee on NAEP Participation; approval of NAEP report release dates; and receipt of an update on plans for reporting NAEP 2000 in reading, mathematics, and science.

The Committee on Standards, Design, and Methodology will review recommendations from the Ad Hoc Committee on NAEP Participation, and hear updates on achievement levels setting, and translation of achievement levels to Voluntary National Tests.

The full Board will reconvene in open session from 12:30-4 p.m. to hear a report on a study regarding the impact of incentives and rewards for NAEP. This will be followed by a presentation on the conclusions and recommendations on achievement levels. The Board will then receive ethics training from staff of the Office of General Counsel.

On Saturday, November 18, the Board will hear a status report on the NAEP Market Basket Pilot Studies, and a report of the National Academy of Sciences' Evaluation of the NAEP Market Basket and District-Level Reporting. This meeting of the National Assessment Governing Board will conclude with the presentation of committee reports and Board actions.

A summary of the activities of the partially closed session, and other related matters which are informative to the public and consistent with the policy of the section 5 U.S.C. 552b(c), will be available to the public within 14 days after the meeting. Records are kept of all Board proceedings and are available for public inspection at the U.S. Department of Education, National Assessment Governing Board, Suite #825, 800 North Capitol Street, NW., Washington, DC, from 8:30 a.m. to 5 p.m.

Roy Truby,
Executive Director, National Assessment Governing Board.

[FR Doc. 00-28162 Filed 11-1-00; 8:45 am]

BILLING CODE 4001-01-M